DEPARTMENT OF TRANSPORTATION

Federal Motor Carrier Safety Administration

[Docket No. FMCSA-2004-18898]

Withdrawal of Proposed Improvements to the Motor Carrier Safety Status Measurement System (SafeStat) and Implementation of a New Carrier Safety Measurement System (CSMS)

AGENCY: Federal Motor Carrier Safety Administration (FMCSA), DOT.

ACTION: Notice; request for comments.

SUMMARY: The FMCSA announces that it will replace its Motor Carrier Safety Status Measurement System (SafeStat) with an improved Carrier Safety Measurement System (CSMS) on November 30, 2010. The CSMS has been developed and tested as part of the Agency's Comprehensive Safety Analysis 2010 (CSA 2010) initiative. Therefore, FMCSA is withdrawing the notice of proposed improvements to SafeStat that was published for public comment on May 3, 2006. SafeStat is an automated algorithm currently used by FMCSA to identify high-risk and other motor carriers for on-site compliance reviews. By implementing the new CSMS algorithm, FMCSA will be able to better identify high-risk motor carriers, make more efficient and effective the Agency's and its State partners' allocation of compliance and enforcement resources and provide the motor carrier industry and other safety stakeholders with more comprehensive, informative, and regularly updated safety performance data.

From April 12, 2010 to November 30, 2010, FMCSA will provide individual motor carriers with a preview of their performance data at http://csa2010.fmcsa.dot.gov. This preview in advance of full implementation on November 30, 2010, will improve safety by effecting early compliance and providing opportunities for motor carriers to become better educated on the new CSMS.

DATES: Submit comments before September 30, 2010.

ADDRESSES: You may submit comments identified by the Docket Number in the heading of this notice by any of the following methods:

• Web site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. E.S.T., Monday through Friday, except Federal holidays.

Instructions: For detailed instructions on submitting comments and for additional information, see the Public Participation heading below. Note that all comments received, including any personal information, will be posted without change to http://www.regulations.gov. Please see the Privacy Act heading below.

Docket: For access to the docket to read background documents or comments received, go to http://www.regulations.gov at any time or to the ground floor, room W12-140, DOT Building, New Jersey Avenue, SE., Washington, DC, between 9 a.m. and 5 p.m., E.S.T., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://docketsinfo.dot.gov.

Public participation: The www.regulations.gov Web site is generally available 24 hours each day, 365 days each year. You can get electronic submission and retrieval help and guidelines under the “help” section of the http://www.regulations.gov Web site and also at the DOT's http://docketsinfo.dot.gov Web site. If you want FMSCA to notify you that we received your comments, please include a self-addressed, stamped envelope or postcard or print the acknowledgement page that appears after submitting comments online.

Comments received after the comment closing date will be included in the docket, and we will consider late comments to the extent practicable.

FOR FURTHER INFORMATION CONTACT: Mr. Bryan Price, Federal Motor Carrier Safety Administration, 1000 Liberty Avenue, Suite 1300, Pittsburgh, PA 15222, Telephone 412-395-4816 E-Mail: bryan.price@dot.gov.

SUPPLEMENTARY INFORMATION:

Comprehensive Safety Analysis 2010 (CSA 2010)

CSA 2010 is a major FMCSA safety initiative that will improve the effectiveness of the Agency's compliance and enforcement programs. CSA 2010 will help the Agency assess the safety performance of a greater segment of the motor carrier industry and allow it to intervene earlier with more carriers to change unsafe behavior and practices. The ultimate goal is to achieve a greater reduction in large truck and bus crashes, injuries, and fatalities, while making efficient use of the resources of FMCSA and its State partners.

In contrast to the Agency's current operational model, CSA 2010 is characterized by three principal components:

(1) A more comprehensive carrier safety measurement system;

(2) A broader array of progressive interventions to augment comprehensive on-site investigations (compliance reviews), including warning letters, off-site investigations, and on-site focused investigations; and

(3) A new safety fitness determination (SFD) methodology based more on performance data and not necessarily tied to an on-site investigation. The third component, a new process pursuant to which FMCSA will formally propose and assign adverse SFDs—for example, unfit determinations and resulting prohibitions on operations—is the subject of a Notice of Proposed Rulemaking (NPRM) that will be published for comment at a later date during 2010.

This Federal Register notice addresses implementation of only the first component, a more comprehensive safety measurement system to identify and prioritize motor carriers for investigation. The new measurement system would be used to identify high-risk motor carriers for on-site investigations consistent with section 4138 of the Safe, Accountable, Flexible, Efficient Transportation Equity Act: A Legacy for Users (SAFETEA-LU), [Sec. 4138, Pub. L. 109-59, 119 Stat. 1745 (49 U.S.C. 31144 note), August 10, 2005]. Furthermore, the new CSMS also would provide motor carriers and other safety stakeholders such as shippers with regularly updated safety performance assessments through a public Web site (http://ai.fmcsa.dot.gov).

FMCSA had originally planned to roll out CSA 2010 beginning in the summer of 2010. However, the Agency has received valuable feedback from its partners and stakeholders through CSA 2010 listening sessions and written comments to the CSA 2010 public docket referenced above. FMCSA has also gained valuable knowledge from its operational model test, involving nine States, which began in early 2008 and concludes in June 2010. Therefore, FMCSA has decided to move the beginning of CSA 2010 rollout from the summer to the fall of 2010. This will enable the Agency to incorporate comments and lessons learned into the CSA 2010 model prior to national rollout. Therefore, on November 30, 2010, FMCSA is planning on: (1) Replacing its current measurement system, SafeStat, with CSMS, (2) sending warning letters nationwide, and (3) implementing a revised nationwide Inspection Selection System for roadside inspectors that will be based on CSMS rather than SafeStat. The nine states currently operating in the operational model test will carry out the full array of CSA 2010 interventions after the test concludes in June 2010. These States are Colorado, Delaware, Georgia, Kansas, Maryland, Minnesota, Missouri, Montana, and New Jersey. For the remaining 41 States the new CSA 2010 interventions will be phased in during 2011. While the SFD rulemaking is in process, the Agency will continue to issue safety ratings in accordance with 49 CFR part 385—Safety Fitness Procedures.

Implementation of New Carrier Safety Measurement System (CSMS) To Replace SAFESTAT

SafeStat

The FMCSA's current operational model employs SafeStat to analyze the safety status of individual motor carriers in four analytic Safety Evaluation Areas (SEAs): (1) Accident, (2) Driver, (3) Vehicle and (4) Safety Management. The four SEA values are then combined into an overall safety status assessment, known as a SafeStat score. For a full description of the SafeStat methodology, visit the FMCSA Web site at: http://ai.fmcsa.dot.gov.

In 1997, FMSCA's predecessor Agency implemented SafeStat nationally as its primary tool for identifying high-risk and other motor carriers for compliance reviews. SafeStat results have also served as a prominent factor in roadside screening systems used by FMCSA and its State partners to identify motor carriers for increased inspection activity at the roadside.

In 1999, SafeStat data became available to the public on the FMCSA's Analysis and Information (A & I) online Web site http://ai.fmcsa.dot.gov. Motor carriers, the insurance industry, shippers, safety advocates, and other interested parties began routinely accessing SafeStat data online for use in their own safety analysis and business decisions. In 2004, FMCSA removed public access to the Accident SEA due to problems with the completeness of crash data reported by the States at that time and because the raw crash data reported by the States generally do not include an indication of preventability or accountability. The remaining SafeStat data displayed at http://ai.fmcsa.dot.gov (Driver, Vehicle and Safety Management SEAs) continued to serve as a valuable source of information to motor carriers and other stakeholders. In fact, during calendar year 2009, the SafeStat online web site recorded nearly 4 million user sessions.

New CSMS

On November 30, 2010, FMCSA plans to replace SafeStat with the new CSMS. The new CSMS will work within the CSA 2010 operational model to monitor and quantify the safety performance of commercial motor carriers using data available in FMCSA's motor carrier database, the Motor Carrier Management Information System (MCMIS). Under CSA 2010, these data would include violations found during roadside inspections, traffic enforcement, and other types of interventions. The new CSMS groups these data into seven Behavioral Analysis Safety Improvement Categories (BASICs): Unsafe Driving, Fatigued Driving (Hours-of-Service), Driver Fitness, Controlled Substances and Alcohol, Vehicle Maintenance, Cargo Related, and Crash History. FMCSA developed the BASICs under the premise that commercial motor vehicle (CMV) crashes can ultimately be traced to the behavior of motor carriers and drivers.

There are three important ways that the new CSMS is different from the Agency's current measurement system, SafeStat. The new CSMS:

1. Is organized by seven specific behavioral areas (BASICs), while SafeStat is organized into four broad SEAs;

2. Uses all safety-based inspection violations, while SafeStat uses only out-of-service violations and selected moving violations;

3. Uses risk-based violation weightings while SafeStat does not.

For further information on the new CSMS see the Safety Measurement System Methodology at http://csa2010.fmcsa.dot.gov.

When the new CSMS is implemented on November 30, 2010, motor carrier BASICs will be publicly displayed at http://ai.fmcsa.dot.gov in the same manner that the SEAs are displayed today under SafeStat. As discussed above, FMCSA removed public access to the Accident SEA on SafeStat because of problems with the completeness of State crash data at that time and because the data do not include information on preventability or accountability. FMCSA is currently conducting a feasibility study on using police accident reports to determine motor carrier crash accountability before the crash data are entered into CSMS. Until this analysis is completed, the Agency will continue to follow its current policy under SafeStat: the crash data will be displayed publicly, but the CSMS assessment of a motor carrier's crash history will not be publicly displayed.

Industry Preview

Since 2004, FMSCA has been actively consulting with, and preparing, the motor carrier industry and other safety stakeholders for implementation of CSA 2010 and the new CSMS to replace SafeStat. The Agency first held a series of public listening sessions on the broader overall CSA 2010 initiative and the new CSMS in September and October of 2004. These six sessions were designed to collect public input on ways that FMCSA could improve its process of monitoring and assessing the safety performance of the commercial motor carrier industry. A broad cross section of stakeholders, including industry executives, truck and bus drivers, insurance and safety advocacy groups, State and local government officials, and enforcement professionals participated in the sessions (Docket Number FMCSA-2004-18898). Following these initial public listening sessions, FMCSA held annual formal public listening sessions across the country between 2006 and 2008 to prepare the motor carrier industry and other stakeholders for CSA 2010 deployment and the new CSMS. Most recently, in December 2009, FMCSA held two webcasts that included over 3,000 participants. These can be viewed on the CSA 2010 Web site at http://csa2010.fmcsa.dot.gov. In all of these formal sessions, in addition to FMCSA's other proactive outreach activities, differences between SafeStat and the new CSMS were emphasized to prepare the motor carrier industry and other stakeholders for implementation of CSA 2010 and the new CSMS.

On April 12, 2010, FMCSA will undertake an additional step to prepare the motor carrier industry and other stakeholders for replacement of SafeStat with the new CSMS. FMCSA will provide individual motor carriers with a preview of their performance data at http://csa2010.fmcsa.dot.gov, sorted into the BASICs as it will be in the new CSMS. To view their data, motor carriers will have to enter their Personal Identification Number (PIN). Motor carriers that do not have a PIN, or those that have forgotten their PIN, can go to the following Web address for assistance: https://li-public.fmcsa.dot.gov/LIVIEW/PKG_PIN_START.PRC_INTRO. This preview in advance of CSMS implementation on November 30, 2010 will improve motor carrier safety by encouraging early action by carriers to correct and prevent violations, especially in areas that are not currently measured by SafeStat.

The FMCSA is currently considering refinements to the CSMS with regard to issues such as methods of measuring exposure, peer grouping, and violation severity weighting, based upon public comments received thus far and observations resulting from the CSA 2010 Operational Model Test. As a result, initially this preview will not provide motor carriers with an assessment of whether their performance in the BASICs is above FMCSA thresholds that warrant an intervention in the broader CSA 2010 Operational Model Test. Assessments will be added to the preview Web site after completion of the CSA 2010 Operational Model Test, and after any refinements are made to the CSMS during the summer of 2010 but before implementation on November 30, 2010. Thus, motor carriers will have approximately 7½ months to view their roadside violations data from the CSA 2010 perspective—mid-April through November 2010. For the first 3½ months—mid-April through July 2010—carriers will see their violations categorized by BASIC. Beginning in August, after the refinements to CSMS are complete, motor carriers will be able to see an assessment of their violations through CSA 2010. The purpose of this data preview period is to provide individual motor carriers with the opportunity to view their data from the CSA 2010 perspective, and to use the time to identify and take actions to correct deficiencies in their operations which are leading to unsafe behavior.

New CSMS for Identification of High-Risk Motor Carriers

In section 4138 of SAFETEA-LU Congress emphasized the importance of directing compliance review resources toward high-risk motor carriers as follows:

The [FMCSA] shall ensure that compliance reviews are completed on motor carriers that have demonstrated through performance data that they pose the highest safety risk. At a minimum, a compliance review shall be conducted whenever a motor carrier is rated as category A or B for 2 consecutive months.

The Conference Report for SAFETEA-LU further clarified Section 4138 as follows:

Senate Bill:

The Senate bill requires the Secretary to ensure that safety compliance reviews of motor carriers are completed for carriers that have demonstrated that they pose the highest safety risk. A single compliance review is required for any motor carrier that is rated as category A or B for two consecutive months.

Conference Substitute: The Conference adopts the Senate provision with a modification to clarify that multiple compliance reviews are not required for carriers that are rated as category A or B for more than two consecutive months.

H. Conf. Rpt. No. 109-203, at p. 1003 (2005).

The term “SafeStat” is not specifically mentioned in the statute or conference report. However, the SafeStat-related terminology, “rated Category A or B” is used. Although it does identify those motor carriers that “pose the highest safety risk” consistent with section 4138, the new CSMS is not designed to generate alphabetized lists of motor carrier safety performance categories. In FY 2009, the Committee on Appropriations, U.S. Senate, recognized in its report accompanying the Transportation, Housing and Urban Development, and Related Agencies Appropriations bill, 2009, that FMCSA is developing a new means to identify high-risk motor carriers and expressed support that the initiative will improve the Agency's performance:

As the Committee noted last year, the agency is undertaking a comprehensive overhaul of all of its systems in order to better target its resources on the riskiest carriers. The agency is also seeking ways to reach more carriers through its inspection efforts by employing interventions that are less resource intensive than a full-scale compliance review. The Committee agrees that the agency's systems and procedures for conducting oversight need to be dramatically improved, and hopes that this initiative will improve the agency's performance.

The Committee notes that the agency has already completed several tasks including the development of the Behavioral Analysis and Safety Improvement Categories [BASICs] for carriers and drivers. These will be important in identifying and targeting risky carriers for intervention.

S. Rep. No. 110-418, at p.88 (2008).

Beginning on November 30, 2010, FMCSA plans to implement the new CSMS to identify high-risk motor carriers and to meet the intent of SAFETEA-LU section 4138. The new CSMS effectively identifies as many high-risk motor carriers and more precisely identifies their specific performance problems than the current method. Furthermore, FMCSA operational policies will continue to require onsite investigations (i.e., compliance reviews) of these high-risk motor carriers. The FMCSA therefore believes that its planned action of implementing a more effective method of identifying high-risk motor carriers, and continuing to require on-site investigations of these motor carriers is fully consistent with section 4138 of SAFTEA-LU.

Comments

FMCSA requests comments on the above initiatives and the CSMS methodology, http://csa2010.fmcsa.dot.gov. Commenters are requested to provide supporting data wherever appropriate.

Issued on: April 6, 2010.
Anne S. Ferro,
Administrator.

[FR Doc. 2010-8183 Filed 4-8-10; 8:45 am]

BILLING CODE P